DEPARTMENT OF HEALTH AND HUMAN SERVICES

Centers for Disease Control and Prevention

[30-Day-10-0212]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed project or to obtain a copy of data collection plans and instruments, call the CDC Reports Clearance Officer on 404-639-5960 or send comments to CDC Assistant Reports Clearance Officer, 1600 Clifton Road, MS D-74, Atlanta, GA 30333 or send an e-mail to omb@cdc.gov. Written comments should be received within 30 days of this notice.

Proposed Project

National Hospital Discharge Survey (NHDS)(OMB# 0920-0212 exp. 10/31/2011)—Revision— National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request includes hospital recruitment and data collection for 2011, 2012, and 2013 of the redesigned National Hospital Discharge Survey, as well as a pretest of data collection on acute coronary syndrome for a supplement to the NHDS which will be sponsored by the National Heart, Lung and Blood Institute.

The National Hospital Discharge Survey has been conducted continuously by the National Center for Health Statistics, CDC, since 1965. It is the principal source of data on inpatient utilization of short-stay, non-Federal hospitals and is the principal annual source of nationally representative estimates on the characteristics of discharges, lengths of stay, diagnoses, surgical and non-surgical procedures, and patterns of use of care in hospitals in various regions of the country. It is the benchmark against which special programmatic data sources are measured.

Although the current NHDS is still fulfilling its intended functions, it is based on concepts from the health care delivery system, as well as the hospital and patient universes, of previous decades. It has become clear that a redesign of the NHDS that provides greater depth of information is necessary. Consequently, 2010 will serve as the last year in which the current NHDS will be fielded. Meanwhile, the redesigned NHDS is scheduled to begin in 2011.

A new sample of 500 hospitals drawn for the NHDS will be recruited beginning in June 2011 and continuing through September 2012 (167 hospitals on an annualized basis). In 2011, data collection will begin by collecting the electronic Uniform Bills (UB-04s) from hospitals recruited in 2011 followed by data for all sample facilities for 2012 and 2013. A post induction annual facility questionnaire to update facility information will be collected for two years—2012 and 2013 (333 hospitals on an annualized basis).

The data items to be collected from the UB-04 in the NHDS will include patient level data items including basic demographic information, personal identifiers, name, address, social security number (if available), and medical record number (if available), and characteristics of the discharge including admission and discharge dates, diagnoses, and surgical and non-surgical procedures. Facility level data items include demographic information, clinical capabilities, and financial information. UB-04 data will be transmitted from all 500 hospitals on a quarterly basis.

A pretest of a survey supplement on acute coronary syndrome sponsored by the National Heart Lung and Blood will also be fielded in 2011. The pretest will be conducted in a convenience sample of 32 hospitals (11 hospitals on an annualized basis) and discharges will be identified from the UB-04 codes for a diagnosis of acute myocardial infarction.

Users of NHDS data include, but are not limited to CDC, Congressional Research Office, Office of the Assistant Secretary for Planning and Evaluation (ASPE), American Health Care Association, Centers for Medicare & Medicaid Services (CMS), and Bureau of the Census. Data collected through NHDS are essential for evaluating health status of the population, for the planning of programs and policy to elevate the health status of the Nation, for studying morbidity trends, and for research activities in the health field. NHDS data have been used extensively in the development and monitoring of goals for the Year 2000 and 2010 Healthy People Objectives. In addition, NHDS data provide annual updates for numerous tables in the Congressionally-mandated NCHS report, Health, United States. Other users of these data include universities, research organizations, many in the private sector, foundations, and a variety of users in the print media. There is no cost to respondents other than their time to participate. The total estimated annualized burden is 3,520 hours.

Estimated Annualized Burden Hours
Respondents | Form | Number of respondents | Number of responses per respondent | Avg. burden per response (in hours)
Hospital CEO/CFO | Survey Presentation for the NHDS | 167 | 1 | 1
Director of health information management (DHIM) or Health information technology (DHIT) | Facility Questionnaire Form for the NHDS | 167 | 1 | 4
DHIM or DHIT | Post-Induction Annual Facility Questionnaire | 333 | 1 | 2
DHIM or DHIT | Quarterly Transmission of UB-04 Data | 500 | 4 | 1
Acute Coronary Syndrome (ACS) Pretest
Hospital CEO/CFO | Survey Presentation for the ACS Module for the NHDS | 11 | 1 | 1
DHIM or DHIT | Abstraction and Reabstraction for the ACS Module of the NHDS | 11 | 3 | 15/60

Dated: December 28, 2010.
Carol E. Walker,
Acting Reports Clearance Officer, Centers for Disease Control and Prevention.

[FR Doc. 2010-33342 Filed 1-4-11; 8:45 am]

BILLING CODE 4163-18-P